DEPARTMENT OF COMMERCE

National Institute of Standards and Technology

[Docket No. 110908574-1561-01]

NIST Framework and Roadmap for Smart Grid Interoperability Standards, Release 2.0 (Draft); Request for Comments

AGENCY: National Institute of Standards and Technology, Department of Commerce.

ACTION: Notice; request for comments.

SUMMARY: The National Institute of Standards and Technology (NIST) seeks comments on the draft NIST Framework and Roadmap for Smart Grid Interoperability Standards, Release 2.0. Comments must be received on or before 5 p.m. Eastern time on November 25, 2011. The entire draft version of the NIST Framework and Roadmap for Smart Grid Interoperability Standards, Release 2.0 (Draft), is available online at: http://collaborate.nist.gov/twiki-sggrid/bin/view/SmartGrid/IKBFramework.

DATES: Comments must be received on or before 5 p.m. Eastern Time on November 25, 2011.

ADDRESSES: Written comments may be sent to Office of the National Coordinator for Smart Grid Interoperability, National Institute of Standards and Technology, 100 Bureau Drive, Mail Stop 8100, Gaithersburg, MD 20899-8100 or by e-mail at nistsgfwcmts@nist.gov.

FOR FURTHER INFORMATION CONTACT: Dr. George W. Arnold, National Coordinator for Smart Grid Interoperability, National Institute of Standards and Technology, 100 Bureau Drive, Mail Stop 8100, Gaithersburg, MD 20899-8100; telephone 301-975-2232, fax 301-975-4091; or via e-mail at nistsgfwcmts@nist.gov.

SUPPLEMENTARY INFORMATION: Section 1305 of the Energy Independence and Security Act (EISA) of 2007 (Pub. L. 110-140, 121 Stat. 1492) requires the Director of NIST “to coordinate the development of a framework that includes protocols and model standards for information management to achieve interoperability of smart grid devices and systems.”

In January, 2010, NIST published the NIST Framework and Roadmap for Smart Grid Interoperability Standards, Release 1.0 (Release 1.0). Release 1.0 described a high-level conceptual reference model for the Smart Grid, identified 75 existing standards that are applicable (or likely to be applicable) to the ongoing development of the Smart Grid, specified 15 high-priority gaps and harmonization issues for which new or revised standards and requirements are needed, documented action plans with aggressive timelines by which designated standards-setting organizations (SSOs) will address these gaps, and described the strategy to establish requirements and standards to help ensure Smart Grid cybersecurity.

NIST announces the publication of the NIST Framework and Roadmap for Smart Grid Interoperability Standards, Release 2.0 (Release 2.0) (Draft) for public review and comment. The entire draft version of Release 2.0 (Draft) is available online at: http://collaborate.nist.gov/twiki-sggrid/bin/view/SmartGrid/IKBFramework. Release 2.0 builds upon the work in Release 1.0 with an update on the progress in closing the previously identified high-priority gaps and additional standards issues that are now being addressed, a description of the recently-formed Smart Grid Interoperability Panel (SGIP), an expanded cybersecurity chapter, and a new testing and certification chapter.

Request for Comments: NIST seeks comments on the draft framework and roadmap report. In particular, the agency requests that: Comments be categorized as (1) Technical; (2) editorial; or (3) general. If a comment is not a general comment, please identify the relevant page, line number, and section the comment addresses. Also include a proposal on how to address the comment. Comments should be submitted in accordance with instructions in the ADDRESSES section of this notice.

Dated: October 13, 2011.
Willie E. May,
Associate Director for Laboratory Programs.

[FR Doc. 2011-27556 Filed 10-24-11; 8:45 am]

BILLING CODE 3510-13-P